FEDERAL MARITIME COMMISSION

Service Contract Inventory Analysis; Fiscal Year 2018

AGENCY: Federal Maritime Commission.

ACTION: Notice of release of the Federal Maritime Commission's FY 2018 Service Contract Inventory Analysis.

SUMMARY: The Federal Maritime Commission (Commission) is publishing this notice to advise the public of the availability of its FY 2018 Service Contract Inventory Analysis. The FY 2018 Service Contract Inventory Analysis includes Background, Methodology, Agency Analysis of Contracts, Contract Services and Agency.

DATES: The inventory is available on the Commission's website as of July 16, 2020.

FOR FURTHER INFORMATION CONTACT: Katona Bryan-Wade, Director, Office of Management Services, 202-523-5900, omsmaritime@fmc.gov.

SUPPLEMENTARY INFORMATION: Acting in compliance with Sec. 743 of Division C of the Consolidated Appropriations Act 2010, the Federal Maritime Commission (Commission) is publishing this notice to advise the public of the availability of its FY 2018 Service Contract Inventory Analysis. The FY 2018 Service Contract Inventory Analysis includes Background, Methodology, Agency Analysis of Contracts, Contract Services and Agency.

Objectives, and Agency Findings

This analysis was developed in accordance with guidance issued by the Office of Management and Budget (OMB), Office of Procurement Policy (OFPP), and in accordance with FAR subpart 4.17—Service Contracts Inventory. The Federal Maritime Commission has posted its FY 2018 Service Contract Inventory Analysis at the following link: https://www.fmc.gov/about-the-fmc/governmentwide-laws-regulations/service-contract-analysis/.

Rachel Dickon,
Secretary.

[FR Doc. 2020-20449 Filed 9-16-20; 8:45 am]

BILLING CODE 6730-02-P